DEPARTMENT OF DEFENSE

GENERAL SERVICES ADMINISTRATION

NATIONAL AERONAUTICS AND SPACE ADMINISTRATION

48 CFR Part 52

[FAC 2022-02; Item II; Docket No. FAR-2021-0052; Sequence No. 4]

Federal Acquisition Regulation; Technical Amendments

AGENCY: Department of Defense (DoD), General Services Administration (GSA), and National Aeronautics and Space Administration (NASA).

ACTION: Final rule.

SUMMARY: This document makes amendments to the Federal Acquisition Regulation (FAR) in order to make needed editorial changes.

DATES: Effective: January 14, 2022.

FOR FURTHER INFORMATION CONTACT: Ms. Lois Mandell, Regulatory Secretariat Division (MVCB), at 202-501-4755 or GSARegSec@gsa.gov. Please cite FAC 2022-02, Technical Amendments.

SUPPLEMENTARY INFORMATION: This document makes editorial changes to 48 CFR part 52.

List of Subjects in 48 CFR Part 52 Government procurement.

William F. Clark,
Director, Office of Government-wide Acquisition Policy, Office of Acquisition Policy, Office of Government-wide Policy.

Therefore, DoD, GSA, and NASA amend 48 CFR part 52 as set forth below:

PART 52—SOLICITATION PROVISIONS AND CONTRACT CLAUSES

1. The authority citation for 48 CFR part 52 continues to read as follows:

Authority: 40 U.S.C. 121(c); 10 U.S.C. chapter 137; and 51 U.S.C. 20113.

2. Amend section 52.216-5 by—

a. Revising the date of the clause; and

b. Removing from paragraph (h)(3) the phrase “by the amount of any applicable tax credits due the Contractor under 26 U.S.C. 1481 and”.

The revision reads as follows:

52.216-5 Price Redetermination—Prospective.

* * * * *

Price Redetermination—Prospective (Jan 2022)

* * * * *

3. Amend section 52.216-6 by—

a. Revising the date of the clause; and

b. Removing from paragraph (g)(2) the phrase “by the amount of any applicable tax credits due the contractor under 26 U.S.C. 1481 and”.

The revision reads as follows:

52.216-6 Price Redetermination—Retroactive.

* * * * *

Price Redetermination—Retroactive (Jan 2022)

* * * * *

4. Amend section 52.216-16 by—

a. Revising the date of clause; and

b. Removing from paragraph (g)(2) the phrase “by the amount of any applicable tax credits due the Contractor under 26 U.S.C. 1481 and”.

The revision reads as follows:

52.216-16 Incentive Price Revision—Firm Target.

* * * * *

Incentive Price Revision—Firm Target (Jan 2022)

* * * * *

5. Amend section 52.216-17 by—

a. Revising the date of clause; and

b. Removing from paragraph (i)(2) the phrase “by the amount of any applicable tax credits due the Contractor under 26 U.S.C. 1481 and”.

The revision reads as follows:

52.216-17 Incentive Price Revision—Successive Targets.

* * * * *

Incentive Price Revision—Successive Targets (Jan 2022)

* * * * *

[FR Doc. 2021-26803 Filed 12-14-21; 8:45 am]

BILLING CODE 6820-EP-P